DEPARTMENT OF TRANSPORTATION

Federal Aviation Administration

14 CFR Part 39

[Docket No. FAA-2018-0447; Product Identifier 2018-NM-080-AD; Amendment 39-19290; AD 2018-11-02]

RIN 2120-AA64

Airworthiness Directives; Lockheed Martin Corporation/Lockheed Martin Aeronautics Company

AGENCY: Federal Aviation Administration (FAA), DOT.

ACTION: Final rule; request for comments.

SUMMARY: We are adopting a new airworthiness directive (AD) for all Lockheed Martin Corporation/Lockheed Martin Aeronautics Company Model 188A and 188C airplanes; and Model P3A, P-3A, and P3B airplanes type certificated under various other type certificate holders. Certain variants of Model 188A and 188C airplanes are known as “P-3” series airplanes. P-3 series airplanes include but are not limited to Model CP-140, NP-3A, P3A, P-3A, P3B, P-3B, P-3C, P-3P, and WP-3D airplanes. This AD requires a borescope inspection of the aileron control rod assembly to determine if threads exist on the aileron control rod body, and corrective actions if necessary. This AD was prompted by a report indicating that certain aileron control rod bodies were incorrectly machined so that they did not include the load-carrying threads in the bore of the aileron control rod body. As a result, aileron control rod assemblies, which contain the discrepant part, do not provide adequate load carrying capabilities. We are issuing this AD to address the unsafe condition on these products.

DATES: This AD is effective May 23, 2018.

The Director of the Federal Register approved the incorporation by reference of a certain publication listed in this AD as of May 23, 2018.

We must receive comments on this AD by July 9, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Lockheed Martin Corporation/Lockheed Martin Aeronautics Company, Customer Support Center, Dept. 3E1M, Zone 0591, 86 S Cobb Drive, Marietta, GA 30063; telephone 770-494-9131; email electra.support@lmco.com; internet https://www.lockheedmartin.com/en-us/who-we-are/business-areas/aeronautics/mmro/customer-support-center.html. You may view this service information at the FAA, Transport Standards Branch, 2200 South 216th St., Des Moines, WA. For information on the availability of this material at the FAA, call 206-231-3195. It is also available on the internet at http://www.regulations.gov by searching for and locating Docket No. FAA-2018-0447.

Examining the AD Docket

You may examine the AD docket on the internet at http://www.regulations.gov by searching for and locating Docket No. FAA-2018-0447; or in person at Docket Operations between 9 a.m. and 5 p.m., Monday through Friday, except Federal holidays. The AD docket contains this final rule, the regulatory evaluation, any comments received, and other information. The street address for Docket Operations (phone: 800-647-5527) is in the ADDRESSES section. Comments will be available in the AD docket shortly after receipt.

FOR FURTHER INFORMATION CONTACT: Hector Hernandez, Aerospace Engineer, Systems and Equipment Section, FAA, Atlanta ACO Branch, 1701 Columbia Avenue, College Park, GA 30337; phone: 404-474-5587; fax: 404-474-5606; email: Hector.Hernandez@faa.gov.

SUPPLEMENTARY INFORMATION:

Discussion

We have received a report indicating that certain aileron control rod bodies, part number (P/N) 826999-3, were incorrectly machined so that they did not include the load-carrying threads in the bore of the aileron control rod body. As a result, aileron control rod assemblies, P/N 826998-3, which contain the discrepant part, do not provide adequate load carrying capabilities. A number of these discrepant parts have been found installed on operational airplanes.

The discrepant aileron control rod bodies, P/N 826999-3, were machined with a smooth internal bore rather than with ⅞-inch internal threads to engage the mating part. The missing ⅞-inch internal threads are intended to transmit the aileron control loads. The incorrectly machined aileron control rod assemblies, P/N 826998-3, are held together with a single threaded #10 (0.190-inch diameter) screw that is not intended to carry aileron control forces.

Failure of the aileron control rod assembly, or loss or failure of the #10 (0.190-inch diameter) screw holding the left (or right) aileron control rod assembly together, if not addressed, will result in loss of aileron authority, and could result in the jamming of both left and right ailerons, and loss of control of the airplane.

Related Service Information Under 1 CFR Part 51

We reviewed Lockheed Martin Aeronautics Company Aircraft Maintenance Bulletin M0017R2, Revision 2, dated May 10, 2018. This service information describes procedures for a borescope inspection of the aileron control rod assembly to determine if threads exist on the aileron control rod body. This service information is reasonably available because the interested parties have access to it through their normal course of business or by the means identified in the ADDRESSES section.

FAA's Determination

We are issuing this AD because we evaluated all the relevant information and determined the unsafe condition described previously is likely to exist or develop in other products of the same type design.

AD Requirements

This AD requires accomplishing the actions specified in the service information described previously, and replacement of the aileron control rod assembly with a serviceable assembly.

Difference Between Service Information and AD

Lockheed Martin Aeronautics Company Aircraft Maintenance Bulletin M0017R2, Revision 2, dated May 10, 2018, recommends that the inspection be performed before the next flight. This AD, however, allows 3 days after the effective date of the AD to do this inspection. We have determined that 3 days will allow affected operators time for an orderly inspection of their fleet and still provide an acceptable level of safety.

FAA's Justification and Determination of the Effective Date

An unsafe condition exists that requires the immediate adoption of this AD without providing an opportunity for public comments prior to adoption. The FAA has found that the risk to the flying public justifies waiving notice and comment prior to adoption of this rule because failure of the aileron control rod assembly, or loss or failure of the #10 (0.190-inch diameter) screw holding the left (or right) aileron control rod assembly together, will result in loss of aileron authority, and could result in the jamming of both left and right ailerons, and loss of control of the airplane. Therefore, we find good cause that notice and opportunity for prior public comment are impracticable. In addition, for the reasons stated above, we find that good cause exists for making this amendment effective in less than 30 days.

Comments Invited

This AD is a final rule that involves requirements affecting flight safety and was not preceded by notice and an opportunity for public comment. However, we invite you to send any written data, views, or arguments about this final rule. Send your comments to an address listed under the ADDRESSES section. Include the docket number FAA-2018-0447 and Product Identifier 2018-NM-080-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 25 airplanes of U.S. registry. We estimate the following costs to comply with this AD:

Estimated Costs
Action | Labor cost | Parts cost | Cost per product | Cost on U.S. operators
Inspection | 4 work-hours × $85 per hour = $340 | $0 | $340 | $8,500

We estimate the following costs to replace any aileron control rod assembly that would be required based on the results of the inspection. We have no way of determining the number of aircraft that might need this replacement:

On-Condition Costs
Action | Labor cost | Parts cost | Cost per product
Replacement | 9 work-hours × $85 per hour = $765 | $1,600 | $2,365

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-11-02 Lockheed Martin Corporation/Lockheed Martin Aeronautics Company and various other type certificate holders: Amendment 39-19290; Docket No. FAA-2018-0447; Product Identifier 2018-NM-080-AD.

(a) Effective Date

This AD is effective May 23, 2018.

(b) Affected ADs

None.

(c) Applicability

This AD applies to all Lockheed Martin Corporation/Lockheed Martin Aeronautics Company Model 188A and 188C airplanes; and Model P3A, P-3A, and P3B airplanes type certificated under various other type certificate holders; certificated in any category.

Note 1 to paragraph (c) of this AD: Certain variants of Model 188A and 188C airplanes are known as “P-3” series airplanes. P-3 series airplanes include but are not limited to Model CP-140, NP-3A, P3A, P-3A, P3B, P-3B, P-3C, P-3P, and WP-3D airplanes.

(d) Subject

Air Transport Association (ATA) of America Code 27, Flight controls.

(e) Unsafe Condition

This AD was prompted by a report indicating that certain aileron control rod bodies, part number (P/N) 826999-3, were incorrectly machined so that they did not include the load-carrying threads in the bore of the aileron control rod body. As a result, aileron control rod assemblies, P/N 826998-3, which contain the discrepant part, do not provide adequate load carrying capabilities. We are issuing this AD to address failure of the aileron control rod assembly, or loss or failure of the #10 (0.190-inch diameter) screw holding the left (or right) aileron control rod assembly together, which will result in loss of aileron authority, and could result in the jamming of both left and right ailerons, and loss of control of the airplane.

(f) Compliance

Comply with this AD within the compliance times specified, unless already done.

(g) Inspection

Within 3 days after the effective date of this AD, perform a borescope inspection of the aileron control rod assembly, P/N 826998-3, to determine if threads exist on the aileron control rod body, P/N 826999-3, in accordance with Lockheed Martin Aeronautics Company Aircraft Maintenance Bulletin M0017R2, Revision 2, dated May 10, 2018. If the inspection indicates missing threads on the aileron control rod body, before further flight, replace the aileron control rod assembly with a serviceable part. A serviceable aileron control rod assembly is one that has been inspected in accordance with the requirements of this paragraph and found to have internal threads on the aileron control rod body.

Note 2 to paragraph (g) of this AD: Guidance on replacing the aileron control rod assembly can be found in Lockheed Martin Aircraft Maintenance Manual Sections 27-2-2 AILERON PRIMARY CONTROL CABLES, Maintenance Practices, Rigging of Aileron Primary Control Cable System; 27-2-3 AILERON PUSH-PULL TUBES, BRACKETS AND BELLCRANKS, Maintenance Practices, Aileron Push-Pull Tubes, Brackets and Bellcranks, Remove/Replace/Adjust/Rig; and 27-2-4 AILERON, Maintenance Practices, Removal/Installation/Adjustment/Lubrication aileron.

(h) Parts Installation Limitation

As of the effective date of this AD, no person may install an aileron control rod assembly, P/N 826998-3, on any airplane, unless the aileron control rod assembly is serviceable as defined in paragraph (g) of this AD.

(i) Reporting Provisions

Although Lockheed Martin Aeronautics Company Aircraft Maintenance Bulletin M0017R2, Revision 2, dated May 10, 2018, recommends that inspection reports be submitted to Lockheed, this AD does not require that action.

(j) Special Flight Permit

Special flight permits, as described in Section 21.197 and Section 21.199 of the Federal Aviation Regulations (14 CFR 21.197 and 21.199), are not allowed.

(k) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l) of this AD.

(2) Before using any approved AMOC, notify your appropriate principal inspector, or lacking a principal inspector, the manager of the local flight standards district office/certificate holding district office.

(l) Related Information

For more information about this AD, contact Hector Hernandez, Aerospace Engineer, Systems and Equipment Section, FAA, Atlanta ACO Branch, 1701 Columbia Avenue, College Park, GA 30337; phone: 404-474-5587; fax: 404-474-5606; email: Hector.Hernandez@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Lockheed Martin Aeronautics Company Aircraft Maintenance Bulletin M0017R2, Revision 2, dated May 10, 2018 (only the first page contains the date).

(ii) Reserved.

(3) For service information identified in this AD, contact Lockheed Martin Corporation/Lockheed Martin Aeronautics Company, Customer Support Center, Dept. 3E1M, Zone 0591, 86 S Cobb Drive, Marietta, GA 30063; telephone 770-494-9131; email electra.support@lmco.com; internet https://www.lockheedmartin.com/en-us/who-we-are/business-areas/aeronautics/mmro/customer-support-center.html.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to http://www.archives.gov/federal-register/cfr/ibr-locations.html.

Issued in Des Moines, Washington, on May 17, 2018.
Jeffrey E. Duven,
Director, System Oversight Division, Aircraft Certification Service.

[FR Doc. 2018-11133 Filed 5-22-18; 8:45 am]

BILLING CODE 4910-13-P